DEPARTMENT OF HEALTH AND HUMAN SERVICES

Health Resources and Services Administration

Proposed Eligibility Criteria for the Centers of Excellence Program in Health Professions Education for Under-represented Minority Individuals

AGENCY: Health Resources and Services Administration, HHS.

ACTION: Notice.

SUMMARY: This notice requests comments on proposed eligibility criteria for the Center of Excellence (COE) program in health professions education for under-represented minority (URM) individuals. When finalized, these eligibility criteria, will be used to determine the eligibility of designated health professions schools in Fiscal Year 2001. The designated health professions schools are schools of allopathic and osteopathic medicine, dentistry, pharmacy, and graduate programs in behavioral and mental health. The COE program is authorized by section 736 of the Public Health Service Act (the Act) (42 U.S.C. 293).

DATES: Interested persons are invited to comment by August 9, 2000. All comments received on or before August 9, 2000, will be considered in the development of the final eligibility criteria for the COE program. Comments will be addressed individually or by group in the final notice published in the Federal Register.

ADDRESSES: All written comments concerning this notice should be submitted to Mario A. Manecci, Acting Director, Division of Health Professions Diversity, Bureau of Health Professions, Health Resources and Services Administration, Parklawn Building, Room 8A-09, 5600 Fishers Lane, Rockville, Maryland 20857.

FOR FURTHER INFORMATION CONTACT: Mario A. Manecci, Acting Director, Division of Health Professions Diversity; telephone (301) 443-2100.

SUPPLEMENTARY INFORMATION:

Purpose

The COE program supports programs of excellence in health professions education for under-represented minority (URM) individuals in designated health professions schools. These designated health professions school COE categories are: certain Historically Black Colleges and Universities, Hispanic, Native American, and other health professions schools that meet the program requirements. The COEs are innovative resource and education centers to recruit, train, and retain URM students and faculty at health professions schools. They carry out activities to improve information resources, clinical education, curricula and cultural competence, focusing on minority health issues. The COEs also focus on facilitating faculty and student research on health issues particularly affecting under-represented minority groups. The ultimate goal of the COE program is to strengthen the national capacity to produce a culturally competent healthcare workforce diversity that represents the U.S. population.

Proposed Eligibility Criteria

The Act requires the designated schools to meet each of four general conditions as part of their eligibility requirements. The schools must: (1) Have a significant number of URM students enrolled; (2) have been effective in assisting its URM students to complete the educational program and receive the attached degree; (3) have been effective in recruiting URM students to enroll in and graduate from the school, including providing financial assistance and encouraging URM students at all levels of education to pursue health professions careers; and (4) have made significant recruitments efforts to increase the number of URM students serving in faculty or administrative positions at the school.

The intent of the COE statute is to identify and support institutions with a commitment to URM's and who have attained, as demonstrated by meeting minimum standards, the expertise in recruiting, teaching, training, and retaining the URM health professional, both as practitioners and as faculty. The proposed criterion is to ascertain that eligible institutions have demonstrated progress in improving the school's information resources, clinical education, and curricula and cultural competence of their graduates with respect to minority health issues. The criteria is to ensure that COE applicants will contribute effectively to the attainment of the HRSA goals of increased diversity in the health care workforce and improving the capacity of designated schools to support programs of excellence in health professions education for URMs. Beginning in FY 2001, the Secretary proposes to establish the following criteria to determine these four eligibility conditions.

A. First Condition

The school must have a significant number of URM students enrolled, including students who have been accepted for enrollment at the school. The Secretary will determine the “significant number” for Hispanic and Native American COEs based on a percentage of the current number of URM students enrolled in these schools. This determination is unnecessary, however, for Historically Black Colleges and Universities which meet the “significant number” condition by virtue of their definition. With respect to the “other” COE health professions schools, the Act requires these schools to have a current enrollment of URMs above the national average.

Given the relatively low number of URMs enrolled in health professions schools, a significant number of URMs would be the number that the Secretary views as a critical mass of URM students. The variation in health professions schools class size and total school enrollment also impacts on the determination of the critical mass of URM students. These figures are as follows:

ALLOPATHIC MEDICINE: TOTAL SCHOOLS = 125

Hispanic Significant Number = 20

There are 39 schools (31%) out of 125 with 20 or more Hispanic students enrolled.

Native American Significant Number = 8

There are 24 schools (20%) out of 125 with 8 or more Native American students enrolled.

OSTEOPATHIC MEDICINE: TOTAL SCHOOLS = 19

Hispanic Significant Number = 20

There are 8 schools (40%) out of 19 with 20 or more Hispanic students enrolled.

Native American Significant Number = 5

There are 6 schools (30%) out of 19 with 5 or more Native American students enrolled.

PHARMACY: TOTAL SCHOOLS = 73

Hispanic Significant Number = 20

There are 10 schools (14%) out of 73 with 20 or more Hispanic students enrolled.

Native American Significant Number = 5

There are 4 schools (6%) out of 73 with 5 or more Native American students enrolled.

DENTISTRY: TOTAL SCHOOLS = 54

Hispanic Significant Number = 20

There are 12 schools (22%) out of 54 with 20 or more Hispanic students enrolled.

Native American Significant Number = 6

There are 2 schools (5%) out of 54 with 6 or more Native American students enrolled.

Behavioral or Mental Health (CLINICAL SOCIAL WORK) = 115

Since there are no current figures available for this category, Schools of Social Work (Direct Services or Clinical Social Work) total URM enrollment will be used as representative of this category.

Hispanic Significant Number = 30

There are 13 schools (11%) out of 115 with 30 or more students enrolled.

Native American Significant Number = None available at this time.

Due to the very limited number of Native Americans enrolled in a Behavioral or Mental Health School/Program, Behavioral or Mental Health graduate programs will be incorporated as part of a consortium with other Native American COEs. The Secretary is authorized to approve a consortium of health profession schools to carry out the purpose of Native American COEs programs.

B. Second Condition

The second condition requires designated health professions schools to assist URMs students to be effective in assisting its URM students to complete the program of education and to receive the attached degree. During the past 6 years, the twenty federally-funded COE programs had an average graduation rate of 93 percent. Accordingly, the Secretary views “effective” as a 90% URM graduation rate over a 5-year period.

C. Third Condition

The third condition requires designated health professions schools to have effectively recruited URMs including providing scholarships and other financial assistance for individuals enrolled in the school. One of the major barriers for URMs to enroll in health professions schools is the financial debt burden. The majority of URM students need financial assistance to pursue careers in the health professions. The availability of URM scholarships are limited and most resort to long term loans as the mechanism to pay for their professional education. The debt burden of these outstanding loans after graduation, inhibits URMs from practicing in needy areas where reimbursement is dominated by reduced medicaid payments, and options for junior faculty appointments with limiting starting salaries are not competitive to increase URM faculty in health professions schools. The need for financial assistance is a critical issue for URMs. Accordingly, the proposed COE criteria for “effective” recruitment and provision of financial assistance is that the school secures financial assistance in the form of scholarships, tuition waiver, and /or loans for 100% of the URM students who need this aid.

D. Fourth Condition

The fourth condition requires designated health professions schools to have made a significant effort to increase the number of URM faculty or administrative positions at the school. A major COE program focus is to improve the capacity of the school to recruit, train, and retain URM faculty and administrative personnel. Recognizing that institution's faculty and administrative positions may vary from one academic year to another, it would be inappropriate to establish any numerical goal for meeting this condition. However, a health professions school should be able to demonstrate over a 5-year period a “significant effort” to recruit URM faculty and administrative positions based on the number of vacancies over this period. The school must provide the Secretary with a description of the school's policies and activities showing how the school has made a “significant effort” to increase the number of URM faculty and administrative personnel given the number of vacancies for the last 5-year period.

The catalog of Federal Domestic Assistance Number for the COE program is 93.157. This program is not subject to the provisions of Executive Order 12372, Intergovernmental Review of Federal Programs (as implemented through 45 CFR part 100).

These programs are not subject to the Public Health Systems Reporting Requirements.

Dated: July 3, 2000.
Claude Earl Fox,
Administrator, Health Resources and Services Administration.

[FR Doc. 00-17322 Filed 7-7-00; 8:45 am]

BILLING CODE 4160-15-U